DEPARTMENT OF EDUCATION

Applications for New Awards; Project Prevent Grant Program

AGENCY: Office of Elementary and Secondary Education, Department of Education.

ACTION: Notice.

Overview Information

Project Prevent Grant Program

Notice inviting applications for new awards for fiscal year (FY) 2014.

Catalog of Federal Domestic Assistance (CFDA) Number: 84.184M.

DATES:

Applications Available: April 29, 2014.

Deadline for Transmittal of Applications: June 30, 2014.

Deadline for Intergovernmental Review: August 27, 2014.

Full Text of Announcement

I. Funding Opportunity Description

Purpose of Program: The Project Prevent Grant Program provides grants to local educational agencies (LEAs) to increase their capacity to help schools in communities with pervasive violence to better address the needs of affected students and to break the cycle of violence.

Background

Children's exposure to violence, whether as victims or witnesses, is often associated with long-term physical, psychological, and emotional harms. These harms, among others, include depression, anxiety, and post-traumatic disorders; failing or having difficulty in school; and delinquency or criminal behavior, including violent acts.

Several Federal agencies have worked to address the issues surrounding children's exposure to violence. Since 1980, the Centers for Disease Control and Prevention has been studying patterns of violence and the effects of violence on communities and individuals, and it has been advancing strategies to prevent violence and mitigate the impacts of exposure to violence.¹ Furthermore, in 2010, Attorney General Eric Holder launched the Defending Childhood initiative to better understand and address the problem of children's exposure to violence. As part of this initiative, the Attorney General's Task Force on Children Exposed to Violence released a report and national action plan in December 2012, which helped inform the development of the Project Prevent Grant Program.²

¹ National Center for Injury Prevention and Control, Division of Violence Prevention. Retrieved from: www.cdc.gov/violenceprevention.

² U.S. Department of Justice. (2012). Report of the Attorney General's National Task Force on Children Exposed to Violence. Retrieved from: www.justice.gov/defendingchildhood/task-force.html.

In addition, the U.S. Department of Health and Human Services has launched a national effort to “reduce the pervasive, harmful, and costly health impact of violence and trauma by integrating trauma-informed approaches throughout health, behavioral health, and related systems and addressing the behavioral health needs of people involved in or at risk of involvement in the criminal and juvenile justice systems.” This includes the outlining of “Principles and Guidance for a Trauma-Informed Approach.” ³

³ Substance Abuse & Mental Health Services Administration. (2012). SAMHSA's Working Definition of Trauma and Principles and Guidance for a Trauma-Informed Approach. Retrieved from: http://samhsa.gov/traumaJustice.

On January 16, 2013, President Obama proposed “Now is the Time,” a comprehensive plan that proposed a series of actions and steps to protect our children and communities by reducing gun violence, including Project Prevent. The Project Prevent Grant Program also was included in the President's FY 2014 budget request, and Congress provided funding for the new program in the Department of Education Appropriations Act, 2014.

Project Prevent grants will enable LEAs to increase their capacity to identify, assess, and serve students exposed to pervasive violence, helping to ensure that affected students are offered mental health services for trauma or anxiety; support conflict resolution programs; and implement other school-based violence prevention strategies in order to reduce the likelihood that these students will later commit violent acts.

Priorities: This competition includes one absolute priority and two competitive preference priorities. We are establishing the absolute priority and competitive preference priority 1 for the FY 2014 grant competition and any subsequent year in which we make awards from the list of unfunded applications from this competition, in accordance with section 437(d)(1) of the General Education Provisions Act (GEPA), 20 U.S.C. 1232(d)(1). Competitive preference priority 2 is from the notice of final priority published in the Federal Register on March 27, 2014 (79 FR 17035).

Absolute Priority: For FY 2014 and any subsequent year in which we make awards from the list of unfunded applicants from this competition, this priority is an absolute priority. Under 34 CFR 75.105(c)(3) we consider only applications that meet this priority.

This priority is:

Absolute Priority—Expand the Capacity of LEAs To Assist Schools in Communities With Pervasive Violence To Break the Cycle of Violence by Better Meeting the Needs of Affected Students

Under this priority, we provide funding for projects to expand the capacity of LEAs to more effectively assist affected schools in communities with pervasive violence to better meet the needs of students directly or indirectly exposed to pervasive violence. These projects must offer students: (1) Access to school-based counseling services, or referrals to community-based counseling services, for assistance in coping with trauma or anxiety; (2) school-based social and emotional supports for students to help address the effects of violence; (3) conflict resolution and other school-based strategies to prevent future violence; and (4) a safer and improved school environment, which may include, among others, activities to decrease the incidence of harassment, bullying, violence, gang involvement, and substance abuse. Applicants must address all four subparts of this absolute priority.

Competitive Preference Priorities: For FY 2014 and any subsequent year in which we make awards from the list of unfunded applicants from this competition, these priorities are competitive preference priorities. Under 34 CFR 75.105(c)(2)(i) we award an additional three points to an application that meets competitive preference priority 1 and an additional three points to an application that meets competitive preference priority 2.

Note: Applicants may address either of the competitive preference priorities or both. An applicant must identify in the abstract section of its application the competitive preference priority or priorities it wishes the Department to consider. The Department will not review or award points under any competitive preference priority for any application that fails to do so.

In addition, an applicant must describe and list by name in the application narrative the school(s) that will be served under competitive preference priority 1, including information on how each of those school(s) meets the definition of high-poverty school, as defined in this notice. Applicants should submit a letter from the lead entity of a designated Promise Zone attesting to the contribution that the proposed activities would make, and supporting the application. A list of designated Promise Zones and lead organizations can be found at www.hud.gov/promisezones.

These priorities are:

Competitive Preference Priority 1—Serving High-Poverty Schools

Projects that serve students in high-poverty schools (as defined in this notice).

Competitive Preference Priority 2—Promise Zones

Projects that are designed to serve and coordinate with a federally designated Promise Zone.⁴

⁴ For additional information on Promise Zones, see www.whitehouse.gov/the-press-office/2014/01/08/fact-sheet-president-obama-s-promise-zones-initiative.

Application Requirements: The following requirements apply to all applications submitted under this competition.

(1) Description of the severity and magnitude of the problem and identification of schools to be served by the proposed project.

Applicants must describe how pervasive violence in the community is specifically affecting students in schools to be served by project activities. Applicants must describe the nature of the problem for a specific geographic area, based on information such as, but not limited to, incidents of community domestic violence or violent crime; rates of child abuse and neglect; school crime and safety data; student mental health screenings or assessments; surveys of school climate; surveys of student engagement; or other relevant data and information as appropriate. The description may also include demographic data provided by U.S. Census surveys. In order to assess the magnitude of the problem and ensure the schools selected have the greatest need, data cited must be compared to similar data at the State or local level, and on a per capita basis (such as homicides per 100,000 persons) when available.

(2) Collaboration and coordination with related Federal, State, and local initiatives.

Applicants must describe how they intend to work collaboratively with Federal, State and local juvenile justice, mental health, public health, child welfare, and other community agencies to achieve project goals and objectives. Applicants must also describe proposed coordination with existing federally funded efforts related to youth violence prevention and mental health promotion (such as the National Forum on Youth Violence Prevention, Defending Childhood, and other violence prevention-related grants administered by the U.S. Department of Justice, the Substance Abuse and Mental Health Services Administration, and the Centers for Disease Control and Prevention), if applicable. Evidence of collaboration and coordination must be provided through letters of support from local or State agencies and other federally funded projects, if applicable. Finally, applicants must describe how they will use Project Prevent Grant Program funds to complement, rather than duplicate, existing, ongoing, or new efforts to reduce youth violence and mitigate the effects of pervasive violence on students.

(3) Expand and improve LEA capacity to serve students exposed to pervasive violence and ensure affected students receive mental health services, as appropriate.

Applicants must describe the specific activities they will conduct to expand and improve LEA capacity to serve students exposed to pervasive violence, ensure that affected students receive appropriate mental health services, and break the cycle of violence. To meet this requirement, the applicant must propose three or more of the following:

(a) Professional development opportunities for LEA and school mental health staff (e.g., counselors, psychologists, social workers, and psychiatrists) on how to screen for and respond to violence-related trauma and implement appropriate school-based mitigation strategies.

(b) Improving the range, availability, and quality of school-based mental health services by hiring qualified school psychologists, school counselors, or school social workers with expertise or training in violence prevention and responding to the mental health needs of students who have experienced trauma as a result of exposure to violence.

(c) Providing training to select school staff (e.g., teachers, administrators, and support staff), community partners, youth, and parents on the problem of student exposure to pervasive violence, as well as the importance of screening students and providing interventions to help students cope with traumatic events.

(d) Addressing the needs of students in affected schools by developing or improving processes to better target services to these students and developing or improving processes to assess students who are exposed to pervasive violence and who may be experiencing resulting mental, emotional, or behavioral disorders.

(e) Enhancing linkages between LEA mental health services and community mental health systems to ensure affected students receive referrals to treatment as appropriate, including linkages that leverage new opportunities under the Patient Protection and Affordable Care Act, such as the expansion of mental health and substance use disorder coverage.

(4) Delivery of a continuum of evidenced-based programs and practices in selected schools to promote conflict resolution, improve school climate and safety, and implement other school-based strategies to break the cycle of violence.

Applicants must provide a description of the continuum of the evidence-based programs and practices that will be implemented at the school level to break the cycle of violence. The threshold for evidence-based programs is those that, at a minimum, are supported by evidence of promise (as defined in 34 CFR 77.1(c)). These programs and practices must include all of the following:

(a) Interventions and activities that serve all students in a school, regardless of risk level, with the goal of preventing negative or violent behavior (such as bullying, fighting, gang participation, and sexual assault) and enhancing student knowledge and skills regarding positive behavior (such as conflict resolution and other skills);

(b) Interventions and activities (such as those related to anger management, conflict resolution, promotion of positive behavior, and development of protective factors) that target individual students or a sub-group of students whose risk of developing mental or behavioral disorders is significantly higher than average; and

(c) Interventions and services that target individual students who are at risk for, and have shown signs of, mental, emotional, or behavioral disorders; exhibit aggressive, violent, or disruptive behavior; or participate in gangs.

To meet this requirement, applicants must discuss the research and evidence supporting the proposed programs and practices and the estimated effects on the target population. Applicants may use the Federal registries listed in the application package for identifying such programs and practices.

Definitions: We are establishing the definition of “school engagement” in this notice for the FY 2014 grant competition and any subsequent year in which we make awards from the list of unfunded applications from this competition, in accordance with section 437(d)(1) of GEPA, 20 U.S.C. 1232(d)(1). The definition of “high-poverty school” is from the notice of final supplemental priorities and definitions for discretionary grant programs published in the Federal Register on December 15, 2010 (75 FR 78486) and corrected on May 12, 2011 (76 FR 27637). The definition of “local educational agency” is from section 9101(26) of the Elementary and Secondary Education Act of 1965, as amended (ESEA) (20 U.S.C. 7801(26), and is included for the convenience of the reader. The definitions of “ambitious” and “baseline data” are from 34 CFR 77.1.

Ambitious means promoting continued, meaningful improvement for program participants or for other individuals or entities affected by the grant, or representing a significant advancement in the field of education research, practices, or methodologies. When used to describe a performance target, whether a performance target is ambitious depends upon the context of the relevant performance measure and the baseline for that measure.

Baseline data means the starting point from performance is measured and targets are set.

High-poverty school means a school in which at least 50 percent of students are eligible for free or reduced-price lunches under the Richard B. Russell National School Lunch Act or in which at least 50 percent of students are from low-income families as determined using one of the criteria specified under section 1113(a)(5) of the ESEA, as amended. For middle and high schools, eligibility may be calculated on the basis of comparable data from feeder schools. Eligibility as a high-poverty school under this definition is determined on the basis of the most currently available data.

Local educational agency (LEA) means:

(1) A public board of education or other public authority legally constituted within a State for either administrative control or direction of, or to perform a service function for, public elementary schools or secondary schools in a city, county, township, school district, or other political subdivision of a State, or of or for a combination of school districts or counties that is recognized in a State as an administrative agency for its public elementary schools or secondary schools.

(2) The term includes any other public institution or agency having administrative control and direction of a public elementary school or secondary school.

(3) The term includes an elementary school or secondary school funded by the Bureau of Indian Affairs but only to the extent that including the school makes the school eligible for programs for which specific eligibility is not provided to the school in another provision of law and the school does not have a student population that is smaller than the student population of the local educational agency receiving assistance under this Act with the smallest student population, except that the school shall not be subject to the jurisdiction of any State educational agency other than the Bureau of Indian Affairs.

(4) The term includes educational service agencies and consortia of those agencies.

(5) The term includes the State educational agency in a State in which the State educational agency is the sole educational agency for all public schools.

School engagement means participation in school-related activities, and the quality of school relationships, which may include relationships between and among administrators, teachers, parents, and students.

Waiver of Proposed Rulemaking: Under the Administrative Procedure Act (5 U.S.C. 553) the Department generally offers interested parties the opportunity to comment on proposed priorities, definitions, and application requirements. Section 437(d)(1) of GEPA, however, allows the Secretary to exempt from rulemaking requirements, regulations governing the first grant competition under a new or substantially revised program authority. This is the first grant competition for this program under the appropriation for Safe Schools and Citizenship Education in the Department of Education Appropriations Act, 2014, Title III of Division H of P.L. 113-76, and section 4121 of the ESEA (20 U.S.C. 7131) and therefore qualifies for this exemption. In order to ensure timely grant awards, the Secretary has decided to forgo public comment on the absolute priority and competitive preference priority 1, the application requirements and the definitions under section 437(d)(1) of GEPA. These priorities, application requirements, and definitions will apply to the FY 2014 grant competition and any subsequent year in which we make awards from the list of unfunded applicants from this competition.

Program Authority: 20 U.S.C. 7131; the Department of Education Appropriations Act, 2014, Title III of Division H of Pub. L. 113-76.

Applicable Regulations: (a) The Education Department General Administrative Regulations (EDGAR) in 34 CFR parts 75, 77, 79, 80, 81, 82, 84, 97, 98, and 99. (b) The Education Department suspension and debarment regulations in 2 CFR part 3485. (c) The regulations in CFR part 299. (d) The notice of final priority published in the Federal Register on March 27, 2014 (79 FR 17035).

Note: The regulations in 34 CFR part 79 apply to all applicants except federally recognized Indian tribes.

II. Award Information

Type of Award: Discretionary grants.

Estimated Available Funds: $9,750,000.

Contingent upon the availability of funds and the quality of applications, we may make additional awards in in FY 2015 from the list of unfunded applicants from this competition.

Estimated Range of Awards: $250,000 to $1,000,000.

Estimated Average Size of Awards: $487,500.

Estimated Number of Awards: 20.

Note: The Department is not bound by any estimates in this notice.

Project Period: Up to 60 months.

III. Eligibility Information

1. Eligible Applicants: LEAs, including charter schools that are considered LEAs under State law.

2. Cost Sharing or Matching: This competition does not require cost sharing or matching.

3. Other: An entity that receives a grant under this program is required to provide for the equitable participation of private school children and their teachers or other educational personnel.

In order to ensure that grant program activities address the needs of private school children, the applicant must engage in timely and meaningful consultation with appropriate private school officials during the design and development of the program. This consultation must take place before the applicant makes any decision that affects the opportunities of eligible private school children, teachers, and other educational personnel to participate. Administrative direction and control over grant funds must remain with the grantee (See section 9501, Participation by Private School Children and Teachers, of the ESEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.184M.

Individuals with disabilities can obtain a copy of the application package in an accessible format (e.g., braille, large print, audiotape, or compact disc) by contacting the person listed under Accessible Format in section VIII of this notice.

2. Content and Form of Application Submission: Requirements concerning the content of an application, together with the forms you must submit, are in the application package for this competition.

Page Limit: The application narrative is where you, the applicant, provide the project narrative and management plan to address the selection criteria that reviewers use to evaluate your application. The required budget and budget narrative will be provided in a separate section. You must limit the application narrative to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The page limit does not apply to the cover sheet; the budget section, including the narrative budget justification; the assurances and certifications; or the one-page abstract, the resumes, the bibliography, or the letters of support. However, the page limit does apply to all of the application narrative section.

Our reviewers will not read any pages of your application that exceed the page limit.

3. Submission Dates and Times:Applications Available: April 29, 2014.

Deadline for Transmittal of Applications: June 30, 2014.

Applications for grants under this competition must be submitted electronically using the Grants.gov Apply site (Grants.gov). For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 27, 2014.

4. Intergovernmental Review: This competition is subject to Executive Order 12372 and the regulations in 34 CFR Part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: http://www.grants.gov/web/grants/register.html.

7. Other Submission Requirements:Applications for grants under this competition must be submitted electronically unless you qualify for an exception to this requirement in accordance with the instructions in this section.

a. Electronic Submission of Applications

Applications for grants under the Project Prevent Grant Program, CFDA number 84.184M, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Project Prevent Grant Program at www.Grants.gov. You must search for the downloadable application package for this competition by the CFDA number. Do not include the CFDA number's alpha suffix in your search (e.g., search for 84.184, not 84.184M).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. (Additional, detailed information on how to attach files is in the application instructions.)

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Earl Myers, Jr., U.S. Department of Education, 400 Maryland Avenue SW., Room 3E247, Washington, DC 20202. FAX: (202) 453-6742.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.184M), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: CFDA Number 84.184M, 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 of EDGAR and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: (a) Program Performance Measures. The Department has established the following performance measures for assessing the effectiveness of the Project Prevent Grant Program:

(1) The percentage of grantees that report a measurable decrease in violent, aggressive, and disruptive behavior in schools served by the grant.

(2) The percentage of grantees that report a measurable increase in the number of students in schools served by the grant receiving school-based and community mental health services to address student needs resulting from exposure to violence.

(3) The percentage of grantees that report a measurable increase in the school engagement (as defined in this notice) of students served by the grant.

These measures constitute the Department's indicators of success for this program.

(b) Project Performance Measures. The project performance measures are:

(1) Annual decrease in violent, aggressive, and disruptive behavior in schools served by the grant.

(2) Annual increase in the number of students in schools served by the grant receiving school-based and community mental health services to address student needs resulting from exposure to violence.

(3) Annual increase in the school engagement (as defined in this notice) of students served by the grant.

(c) Baseline data. Applicants must provide baseline data (as defined in this notice) for each of the project performance measures listed in (b) and explain why each proposed baseline is valid; or, if the applicant has determined that there are no established baseline data for a particular performance measure, explain why there is no established baseline and explain how and when, during the project period, the applicant will establish a valid baseline for the performance measure.

(d) Performance measure targets. In addition, the applicant must propose annual targets for the measures listed in paragraph (b) in their application. Applications must also provide the following information as directed under 34 CFR 75.110(b) and (c):

(1) Why each proposed performance target is ambitious (as defined in this notice) yet achievable compared to the baseline for the performance measure.

(2) (a) The data collection and reporting methods the applicant would use and why those methods are likely to yield reliable, valid, and meaningful performance data; and (b) the applicant's capacity to collect and report reliable, valid, and meaningful performance data, as evidenced by high-quality data collection, analysis, and reporting in other projects or research.

Note: If the applicant does not have experience with collection and reporting of performance data through other projects or research, the applicant should provide other evidence of capacity to successfully carry out data collection and reporting for its proposed project.

The reviewers of each application will score related selection criteria on the basis of how well an applicant has considered these measures in paragraphs (b), (c), and (d) in conceptualizing the approach and evaluation of the project.

All grantees must submit an annual performance report and final performance report with information that is responsive to these performance measures.

5. Continuation Awards: In making a continuation award, the Secretary may consider, under 34 CFR 75.253, the extent to which a grantee has made “substantial progress toward meeting the objectives in its approved application” and the performance measurement and target requirements in the application notice. This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Earl Myers, Jr., U.S. Department of Education, 400 Maryland Avenue SW., Room 3E247, Washington, DC 20202. Telephone: (202) 453-6716 or by email: Earl.Myers@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 23, 2014.
Deborah S. Delisle,
Assistant Secretary for Elementary and Secondary Education.

[FR Doc. 2014-09604 Filed 4-28-14; 8:45 am]

BILLING CODE 4000-01-P